GENERAL SERVICES ADMINISTRATION

Transportation Management

AGENCY: Office of Governmentwide Policy, GSA.

ACTION: Notice.

SUMMARY: The General Services Administration (GSA) is proposing to develop several instructional chapters to supplement 41 CFR part 102-117 and incorporate the information into the U.S. Government Freight Transportation Handbook. The chapters will be published one at a time. This publication is not intended to change, or open for comment, 41 CFR part 102-117 and 41 CFR part 102-118, as previously published. This chapter will discuss the transportation process without using a Government Bill of Lading for domestic shipments and emphasize the use of electronic commerce. This chapter is available for review at www.gsa.gov/transportationpolicy. A paper copy may be obtained by contacting Elizabeth Allison on 202-219-1729 or elizabeth.allison@gsa.gov.

DATES: Comments should be received by August 30, 2002.

ADDRESSES: Written comments may be addressed to Elizabeth Allison, Office of Governmentwide Policy (MTL), General Services Administration, 1800 F Street, NW., Room 1221, Washington, DC 20405. Send e-mail comments to: elizabeth.allison@gsa.gov.

FOR FURTHER INFORMATION CONTACT: Elizabeth Allison, Program Analyst, Transportation Management Policy Program, Office of Governmentwide Policy, General Services Administration, at 202-219-1729 or Internet e-mail at elizabeth.allison@gsa.gov.

SUPPLEMENTARY INFORMATION:

Background

The General Services Administration (GSA) published Federal Management Regulation (FMR) part 102-117 (41 CFR part 102-117), Transportation Management, at 65 FR 60059, October 6, 2000, and FMR part 102-118 (41 CFR part 102-118), Transportation Payment and Audit, at 65 FR 24568, April 26, 2000. The final rules included the retirement of the Optional Forms 1103 and 1203, the Government Bill of Lading (GBL) for domestic use and encouraged the use of electronic commerce.

For nearly 100 years, the Government Bill of Lading (GBL) was the primary document used to acquire transportation or transportation services in the Government. The mechanics of business transactions without a GBL must be fully understood to ensure a smooth transition to standard business practices; to move toward electronic commerce; to ensure transportation bills are auditable in the future and continue to protect the Government interest.

The purpose of this chapter is to provide information, promote industry understanding and heighten the knowledge base of the Government transportation manager. The chapter will assist the managers in fulfilling their roles and responsibilities related to the transportation management program and provide instructive information to complement the Federal Management Regulation (FMR) parts 102-117 and 102-118 (41 CFR parts 102-117 and 102-118). This chapter does not include directives or procedures that are specific to the mission of an agency.

A. Request for Comments

The General Services Administration (GSA) is seeking comments on this handbook chapter that covers the process of acquiring transportation. Comments will not be accepted on the underlying regulations. Transportation service providers and other interested parties are urged to participate by returning comments. Federal agencies are asked to help solidify the roles and responsibilities of the transportation manager and the transportation service provider moving Government freight and household goods.

Dated: August 12, 2002.
Ted J. Bembenek, Jr.,
Director, Transportation Management Policy Division (MTL).

[FR Doc. 02-20788 Filed 8-15-02; 8:45 am]

BILLING CODE 6820-23-P